DEPARTMENT OF HEALTH AND HUMAN SERVICES

Office of the Secretary

Findings of Research Misconduct

AGENCY: Office of the Secretary, HHS.

ACTION: Notice.

Notice is hereby given that the Office of Research Integrity (ORI) has taken final action in the following case:

Mahandranauth Chetram, Ph.D., Georgetown University and Emory School of Medicine: Based on the report of an investigation conducted by Georgetown University (GU), Respondent's admission at Emory School of Medicine (ESOM), and additional analysis conducted by ORI in its oversight review, ORI found that Dr. Mahandranauth Chetram, former postdoctoral fellow, Department of Oncology, GU, and former postdoctoral fellow, Department of Pediatrics, ESOM, engaged in research misconduct in research supported by National Cancer Institute (NCI), National Institutes of Health (NIH), grants R01 CA113447, R01 CA092306, and T32 CA09686 while at GU, and National Institute of Diabetes and Digestive and Kidney Diseases (NIDDK), NIH, grant R01 DK059380 while at ESOM.

ORI found that Respondent engaged in research misconduct at GU by falsifying Western blot images and polymerase chain reaction (PCR) data included in an unfunded grant application, R01 CA193344-01A1, and in a manuscript submitted to Cancer Cell (“The DNA Repair Protein, NTHL1 Functions as an Oncoprotein by Activating the Canoncial Wnt Pathway.” Submitted to Cancer Cell; hereafter referred to as the “Cancer Cell manuscript”). Subsequently, after Respondent was aware of the research misconduct findings from GU, Respondent engaged in research misconduct at ESOM and falsified RT-PCR data on Excel spreadsheets in the research record and in a figure generated from the false data included in a manuscript submitted to and withdrawn from Scientific Reports (“Immipramine Blue Sensitively and Selectively Targets FLT3-ITD Positive Acute Myeloid Leukemia Cells.” Scientific Reports 7(1):4447, 2017 June 30; doi:10.1038/s41598-017-04796-1. PMID: 28667329. Submitted to Scientific Reports [withdrawn]; hereafter referred to as the “Scientific Reports manuscript”).

Specifically, ORI found:

• While at GU, Respondent falsified Western blot images and qPCR experiments examining mechanisms underlying the hypothesis that the DNA repair protein, NTHL-1, regulates wingless signaling in cancer cells. False Western blot images were included in Figures 6A and S7L in the Cancer Cell manuscript, and the same Figure 6A was included as Figure 8A in grant application R01 CA193344-01A1. False qPCR data were included in Figures 3F and 5D in the Cancer Cell manuscript and Figures 5C (MCF7 panel) and 5E of grant application R01 CA193344-01A1.

• While at ESOM, Respondent falsified data on Excel spreadsheets for eight (8) RT-PCR experiments measuring the expression of various genes in leukemia cell lines and included false data in the Scientific Reports manuscript.

Dr. Chetram entered into a Voluntary Exclusion Agreement and voluntarily agreed for a period of three (3) years, beginning on October 19, 2017:

(1) To exclude himself from any contracting or subcontracting with any agency of the United States Government and from eligibility for or involvement in nonprocurement programs of the United States Government referred to as “covered transactions” pursuant to HHS' Implementation (2 CFR part 376 et seq.) of OMB Guidelines to Agencies on Governmentwide Debarment and Suspension, 2 CFR part 180 (collectively the “Debarment Regulations”); and

(2) To exclude himself voluntarily from serving in any advisory capacity to PHS including, but not limited to, service on any PHS advisory committee, board, and/or peer review committee, or as a consultant.

FOR FURTHER INFORMATION CONTACT: Director, Office of Research Integrity, 1101 Wootton Parkway, Suite 750, Rockville, MD 20852, (240) 453-8200.

Kathryn M. Partin,
Director, Office of Research Integrity.

[FR Doc. 2017-25549 Filed 11-24-17; 8:45 am]

BILLING CODE 4150-31-P